DEPARTMENT OF COMMERCE

National Oceanic and Atmospheric Administration

RIN 0648-XW60

Marine Mammals; File No. 13599

AGENCY: National Marine Fisheries Service (NMFS), National Oceanic and Atmospheric Administration (NOAA), Commerce.

ACTION: Notice; receipt of application for permit amendment.

SUMMARY: Notice is hereby given that the National Ocean Service Marine Forensic Lab (NOS Lab, Julie Carter, Principal Investigator), 219 Fort Johnson Road, Charleston, SC 29412, has applied for an amendment to Scientific Research Permit No. 13599.

DATES: Written, telefaxed, or e-mail comments must be received on or before June 24, 2010.

ADDRESSES: Documents associated with this amendment request are available upon written request or by appointment in the following office(s):

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by email to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Jennifer Skidmore or Kate Swails, (301) 713-2289.

SUPPLEMENTARY INFORMATION: The subject amendment to Permit No. 13599 is requested under the authority of the Endangered Species Act of 1973, as amended (16 U.S.C. 1531 et seq.) and the regulations governing the taking, importing, and exporting of endangered and threatened species (50 CFR 222-226).

Permit No. 13599, issued on December 16, 2008 (73 FR 78724), authorizes the permit holder to receive, import, export, transfer, archive, and conduct analyses of marine mammal and endangered species parts. Species include all cetaceans, pinnipeds (except for walrus), sea turtles (in the water), smalltooth sawfish (Pristis pectinata), shortnose sturgeon (Acipenser brevirostrum) and white abalone (Haliotis sorenseni).

The permit holder is requesting the permit be amended to include additional species under NMFS jurisdiction including Chinook (Oncorhynchus tshawytscha), chum (Oncorhynchus keta), coho (Oncorhynchus kisutch) and sockeye (Oncorhynchus nerka) salmon, steelhead trout (Oncorhynchus mykiss), green (Acipenser medirostris) and Gulf (Acipenser oxyrinchus desotoi) sturgeon, totoaba (Totoaba macdonaldi), and black abalone (Haliotis cracherodii).

In compliance with the National Environmental Policy Act of 1969 (42 U.S.C. 4321 et seq.), an initial determination has been made that the activity proposed is categorically excluded from the requirement to prepare an environmental assessment or environmental impact statement.

Dated: May 19, 2010.
P. Michael Payne,
Chief, Permits, Conservation and Education Division, Office of Protected Resources, National Marine Fisheries Service.

[FR Doc. 2010-12561 Filed 5-24-10; 8:45 am]

BILLING CODE 3510-22-S